DEPARTMENT OF THE INTERIOR

Fish and Wildlife Service

50 CFR Part 14

[Docket No. FWS-HQ-IA-2023-0068; FXIA16710900000-234-FF09A30000]

RIN 1018-BH23

Regulations To Implement the Big Cat Public Safety Act

AGENCY: Fish and Wildlife Service, Interior.

ACTION: Interim rule.

SUMMARY: We, the U.S. Fish and Wildlife Service (Service), are amending our implementing regulations for the Captive Wildlife Safety Act (CWSA) by incorporating the requirements of the Big Cat Public Safety Act (BCPSA) in the CWSA regulations. On December 20, 2022, the BCPSA amended the Lacey Act Amendments of 1981 to clarify provisions enacted by the CWSA and to further the conservation of certain wildlife species. The BCPSA makes it unlawful to import, export, transport, sell, receive, acquire, or purchase in interstate or foreign commerce, or in a manner substantially affecting interstate or foreign commerce, or breed or possess prohibited wildlife species (lions, tigers, leopards, snow leopards, clouded leopards, jaguars, cheetahs, and cougars, or any hybrids thereof), with certain exceptions. The BCPSA also requires an entity or individual who does not qualify for one of the other exceptions and is in possession of any prohibited wildlife species to register each such animal with the Service not later than June 18, 2023, allowing pre-BCPSA owners to register their pre-BCPSA big cats to continue to possess them under the pre-BCPSA exception.

DATES: This rule is effective June 12, 2023. Comments on this interim rule and the information collection requirements contained in it must be received by August 11, 2023.

Information collection requirements: If you wish to comment on the information collection requirements in this rule, please note that the Office of Management and Budget (OMB) is required to make a decision concerning the collection of information contained in this rule between 30 and 60 days after publication of this rule in the Federal Register. Therefore, comments should be submitted to OMB, with a copy to the Service Information Collection Clearance Officer, U.S. Fish and Wildlife Service, (see “Information Collection” section below under ADDRESSES) by August 11, 2023.

ADDRESSES: You may submit comments on this interim rule by one of the following methods:

(1) Electronically: Go to the Federal eRulemaking Portal: https://www.regulations.gov. In the Search box, enter FWS-HQ-IA-2023-0068, which is the docket number for this rulemaking. Then click on the Search button. On the resulting page, in the panel on the left side of the screen, under the Document Type heading, click on the Rules link to locate this document. You may submit a comment by clicking on “Comment.” Please ensure that you have found the correct rulemaking before submitting your comment.

(2) By hard copy: U.S. mail: Public Comments Processing, Attn: FWS-HQ-IA-2023-0068; U.S. Fish and Wildlife Service; MS: PRB/3W; 5275 Leesburg Pike; Falls Church, VA 22041-3803.

We will post all comments on https://www.regulations.gov. This generally means that we will post any personal information you provide us (see Public Comments, below, for more information).

Send comments on the information collection requirements contained in this interim rule to the Service Information Collection Clearance Officer, U.S. Fish and Wildlife Service, by email to Info_Coll@fws.gov; or by mail to 5275 Leesburg Pike, MS: PRB (JAO/3W), Falls Church, VA 22041-3803.

Information collection requirements: Written comments and suggestions on the information collection requirements should be submitted within 60 days of publication of this document to https://www.reginfo.gov/public/do/PRAMain. Find this particular information collection by selecting “Currently under Review—Open for Public Comments” or by using the search function. Please provide a copy of your comments to the Service Information Collection Clearance Officer, U.S. Fish and Wildlife Service, 5275 Leesburg Pike, MS: PRB (JAO/3W), Falls Church, VA 22041-3803 (mail); or Info_Coll@fws.gov (email). Please reference “OMB Control Number 1018-0192” in the subject line of your comments.

FOR FURTHER INFORMATION CONTACT: Naimah Aziz, U.S. Fish and Wildlife Service, Department of the Interior, MS: IA, 5275 Leesburg Pike, Falls Church, VA 22041-3803; (571) 218-5019. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The Big Cat Public Safety Act (BCPSA) was signed into law on December 20, 2022 (Pub. L. 117-243). The purpose of the BCPSA is to amend the Lacey Act Amendments of 1981 (16 U.S.C. 3371-3378) to clarify provisions enacted by the Captive Wildlife Safety Act (CWSA) and to further the conservation of certain wildlife species, including to end private ownership of big cats as pets and also to prohibit exhibitors from allowing direct public contact with big cats, including cubs. The BCPSA helps to ensure the health and welfare of big cats, protects the public from the dangers associated with private ownership of big cats, and strengthens the Service's ability to combat wildlife trafficking. In this interim rule, we are implementing the BCPSA by amending subpart K of part 14, Importation, Exportation, and Transportation of Wildlife, in title 50 of the Code of Federal Regulations (CFR) to incorporate the new definitions, prohibitions, and exceptions under the BCPSA.

In the early 1900s, Congress recognized the need to support States in protecting game animals and birds by prohibiting the interstate shipment of wildlife killed in violation of State or Territorial laws. Today this legislation is known as the Lacey Act. Most significantly amended in 1981, the Lacey Act makes it unlawful to import, export, transport, sell, receive, acquire, or purchase fish, wildlife, or plants taken, possessed, transported, or sold in violation of any Federal, State, foreign, or Native American Tribal law, treaty, or regulation. The Lacey Act applies to all fish and wildlife (including their parts or products) and to wild plants (including plant parts) that are indigenous to the United States and are included in the Appendices to the Convention on International Trade in Endangered Species of Wild Fauna and Flora (CITES) or are listed under a State conservation law.

The CWSA was signed into law on December 19, 2003 (Pub. L. 108-191). The purpose of the CWSA was to amend the Lacey Act Amendments of 1981 to further the conservation of certain wildlife species and to protect the public from dangerous animals. The CWSA was enacted in response to concerns that the Lacey Act did not explicitly address the problem of the increasing trade in big cat species. Although the number of big cats kept as pets cannot be reliably estimated due to the patchwork nature of State laws regarding possession of big cats and other exotic wildlife, at the time of enactment of the CWSA, the number of big cats kept as pets in the United States was estimated to number in the thousands. That trade has been driven in part by an increase in internet sales and auctions, and the increase in popularity of this trade has raised concerns for public safety as well as for the welfare of the big cats. The CWSA made it illegal to import, export, transport, sell, receive, acquire, or purchase, in interstate or foreign commerce, live lions, tigers, leopards, snow leopards, clouded leopards, cheetahs, jaguars, or cougars, or any hybrid thereof, unless certain exceptions applied.

Prior to the enactment of the BCPSA, the United States had no Federal law regarding the possession or breeding of big cats, except where there is a violation of another Federal law, such as take under the Endangered Species Act or international trade contrary to CITES. The legislative history of the BCPSA, and in particular U.S. House of Representatives Report No. 117-428 (July 22, 2022), notes that State laws vary, with some having no restrictions, some requiring registration, and others altogether banning ownership of big cats as pets. According to the House report, an estimated 20,000 big cats, including tigers, lions, jaguars, leopards, cougars, and hybrids, are currently kept in private ownership in the United States. The report also notes that privately owned big cats are often purchased as cubs or bred for photo opportunities, but then, as the animals outgrow that use, they are sold into the exotic pet trade or the illegal market.

The House report notes that privately owned big cats typically live in inadequate conditions that also threaten public safety. It references a Humane Society of the United States publication noting that, since 1990, around 300 dangerous incidents involving big cats in the United States have resulted in human injuries, mauling, and death. Furthermore, big cats are often purchased when young, and many owners are unable to cope with the high-maintenance needs of mature big cats. The report points out that the burden of caring for big cats that are abandoned because they are too dangerous to keep or too expensive to care for properly often falls to already financially strained sanctuaries or humane societies.

Taking into account the above information, Congress has recognized the need to end the private ownership of big cats as pets and prohibit exhibitors from allowing public contact with big cats, including cubs. The BCPSA builds on and amends the CWSA by making it illegal to privately possess or breed lions, tigers, leopards, snow leopards, clouded leopards, cheetahs, jaguars, or cougars, or any hybrid thereof. The BCPSA also makes it illegal to import, export, transport, sell, receive, acquire, or purchase big cats in a manner substantially affecting interstate or foreign commerce, including intrastate activities. The BCPSA also makes it illegal to attempt to commit any of these new prohibitions with big cats.

Current private owners are granted a one-time 180-day period in which to register their big cats under the BCPSA, allowing them to keep their current animals if they register them with the Service and meet all the BCPSA requirements, as described below. Certain entities outlined in the statute, including exhibitors with valid U.S. Department of Agriculture (USDA) Class C licenses, State agencies, State colleges and universities, State-licensed veterinarians, and wildlife sanctuaries, that meet the requirements for other BCPSA exceptions are not required to register their big cats with the Service.

Basis for Regulatory Changes

As noted above, in this interim rule, we are implementing the BCPSA by amending 50 CFR part 14, subpart K, Importation, Exportation, and Transportation of Wildlife, to incorporate the new definitions, prohibitions, and exceptions under the BCPSA. The BCPSA, at 16 U.S.C. 3376(a)(3), provides that the Secretary shall promulgate any regulations necessary to implement the prohibitions and exceptions of the BCPSA (16 U.S.C. 3372(e)).

As previously noted, the BCPSA was signed into law on December 20, 2022 (Pub. L. 117-243, December 20, 2022, 136 Stat. 2336 (amending the CWSA and Lacey Act Amendments of 1981, 16 U.S.C. 3371-3374, 3376, and 7 U.S.C. 1997)). The BCPSA clarifies and updates provisions enacted by the CWSA, placing new restrictions on commerce in and possession, breeding, and use (including public contact) of certain big cat species (referred to in the BCPSA as “prohibited wildlife species”) to address threats to public safety posed by lions, tigers, leopards, snow leopards, clouded leopards, jaguars, cheetahs, cougars, and any hybrids thereof, particularly those currently kept in private ownership in the United States, and to further the conservation of these wildlife species.

The new provisions of the BCPSA are addressed in this interim rule. The BCPSA:

• added a new definition of “breed” (16 U.S.C. 3371(a));

• added a new prohibition on breeding any prohibited wildlife species (16 U.S.C. 3372(e)(1)(B));

• added a new prohibition on possession of any prohibited wildlife species (16 U.S.C. 3372(e)(1)(B));

• maintained prohibitions on import, export, transport, sale, receipt, acquisition, or purchase in interstate or foreign commerce of any prohibited wildlife species (16 U.S.C. 3372(e)(1)(A);

• added new prohibitions on import, export, transport, sale, receipt, acquisition, or purchase in a manner substantially affecting interstate or foreign commerce of any prohibited wildlife species, including intrastate activities (16 U.S.C. 3372(e)(1)(A));

• updated the prohibition on attempting to commit any act prohibited by the CWSA to include any act prohibited by the BCPSA (16 U.S.C. 3372(a)(4));

• revised exceptions for USDA-licensed/registered exhibitors, including by:

○ limiting the exception to an entity exhibiting animals to the public under a Class C license from the USDA, or a Federal facility registered with the USDA that exhibits animals, if such entity or facility holds such license or registration in good standing (16 U.S.C. 3372(e)(2)(A));

○ prohibiting physical contact with big cats except for people who meet certain professional training requirements, licensed veterinarians (or a veterinary student accompanying such a veterinarian), or noncommercial contact necessary to directly support conservation needs for the species pursuant to a species-specific, publicly available, peer-edited population management and care plan submitted to the Service for consideration and approval in accordance with specific criteria in the BCPSA (16 U.S.C. 3372(e)(2)(A)(i));

○ prohibiting public contact with big cats through the establishment of requirements that during public exhibition of a lion, tiger, leopard, snow leopard, jaguar, cougar, or any hybrid thereof, the animal is at least 15 feet from the public or behind a permanent barrier sufficient to prevent public contact (16 U.S.C. 3372(e)(2)(A)(ii));

• maintained exceptions for State colleges, State universities, State agencies, and State-licensed veterinarians, but removed the exception for State-licensed wildlife rehabilitators (16 U.S.C. 3372(e)(2)(B));

• revised exceptions for wildlife sanctuaries, including by clarifying terminology and prohibiting the transportation and display of any prohibited wildlife species offsite (16 U.S.C. 3372(e)(2)(C)); and

• added a new pre-BCPSA exception allowing pre-BCPSA owners to register their pre-BCPSA big cats to continue to possess them, as described in greater detail below (16 U.S.C. 3372(e)(2)(E)).

The prohibitions and exceptions of the BCPSA entered into effect when the BCPSA was signed into law on December 20, 2022 (also referred to as the date of enactment). This rulemaking action updates the regulations in 50 CFR part 14, subpart K, to conform to current law. Notwithstanding 50 CFR part 14, subpart K, any act prohibited by the BCPSA following its enactment is currently unlawful, unless a relevant exception under the BCPSA applies. To the extent of a conflict or inconsistency with the regulations implementing the CWSA at 50 CFR part 14, subpart K, the BCPSA statute is controlling.

“Prohibited wildlife species” (also referred to as “big cats”) is defined by statute as “any live species of lion, tiger, leopard, cheetah, jaguar, or cougar or any hybrid of such species” (16 U.S.C. 3371(h)). This list includes any of the following species, or hybrids of any of these species: lion (Panthera leo), tiger (Panthera tigris), leopard (Panthera pardus), snow leopard (Uncia uncia), clouded leopard (Neofelis nebulosa), jaguar (Panthera onca), cheetah (Acinonyx jubatus), cougar (Puma concolor) (16 U.S.C. 3371(h); 50 CFR 14.252).

The BCPSA makes it unlawful for any person to—(A) import, export, transport, sell, receive, acquire, or purchase in interstate or foreign commerce, or in a manner substantially affecting interstate or foreign commerce, or (B) breed or possess any live prohibited wildlife species (16 U.S.C. 3372(e)(1)). The BCPSA also makes it unlawful for any person to attempt to commit any of these acts with prohibited wildlife species (16 U.S.C. 3372(a)(4)). Violators of the BCPSA are subject to civil and criminal penalties (16 U.S.C. 3373), and big cats bred, possessed, imported, exported, transported, sold, received, acquired, or purchased contrary to the provisions of the BCPSA shall be subject to forfeiture to the United States (16 U.S.C. 3374).

The BCPSA also authorizes a limited exception from the prohibition on possession for a person or entity to register live specimens of prohibited wildlife species if certain requirements are met and continue to be met (16 U.S.C. 3372(e)(2)(E)). The exception was intended to allow current owners of big cats at the time of enactment of the BCPSA to keep their big cats. However, they must register with the Service within 180 days after the date of enactment; must not breed, acquire, or sell big cats after the date of enactment; and must not allow direct contact between the public and their big cats (16 U.S.C. 3372(e)(2)(E)(i)-(iii); H. Rept. No. 117-428, p. 17 (July 22, 2022)). By registering their big cats no later than the statutory deadline (June 18, 2023), the person or entity (registrant) may continue to possess registered big cats that were legally in their possession on or before the date of enactment, as long as the registrant meets and continues to meet all requirements of 16 U.S.C. 3372(e)(2)(E).

To qualify to continue to possess live specimens of prohibited wildlife species under 16 U.S.C. 3372(e)(2)(E), a registrant must register all live specimens of prohibited wildlife species in their possession with the Service no later than June 18, 2023. To comply with the requirements of the BCPSA, the Service provided the public with notice of the BCPSA registration form and sought Office of Management and Budget (OMB) approval of FWS Form 3-200-11, “Registration Form—Big Cat Public Safety Act” (Pub. L. 117-243, December 20, 2022, 136 Stat. 2336), which will collect information to verify eligibility to possess big cats under the BCPSA in accordance with 16 U.S.C. 3372(e)(2)(E). The BCPSA emergency information collection for the BCPSA registration form was approved and assigned OMB Control Number 1018-0192. The OMB approval is valid for only 6 months and expires October 31, 2023 (See 88 FR 16657, March 20, 2023, Agency Information Collection Activities; Big Cat Public Safety Act Registration.).

The Service further announced the availability of the registration form on its website on April 18, 2023: https://www.fws.gov/media/3-200-11-big-cat-public-safety-act-registration-form Big cats bred or possessed in violation of the BCPSA and any big cat that is not registered on or before June 18, 2023, is subject to forfeiture for violation of the BCPSA prohibition on possession, unless another limited exception applies in accordance with the BCPSA (16 U.S.C. 3372(e)(2)(A)-(D), 3374(a)). The other exceptions apply only to qualifying entities exhibiting big cats to the public under a Class C license from the USDA, or a Federal facility registered with the USDA that exhibits animals; State colleges, State universities, State agencies, or State-licensed veterinarians; qualifying wildlife sanctuaries; or qualifying transporters only when in custody of any big cat solely for the purpose of expeditiously transporting the big cat to a person who qualifies for an exception under the BCPSA.

To meet the requirements for an exception from the prohibition on possession under 16 U.S.C. 3372(e)(2)(E), the registrant must:

• Register each individual big cat in their possession with the Service by no later than 180 days after the date of enactment of the BCPSA (i.e., no later than June 18, 2023) (16 U.S.C. 3372(e)(2)(E)(i));

• Not breed, acquire, or sell any big cat after the date of the enactment of the BCPSA (the requirement that the registrant not breed, acquire, or sell any prohibited wildlife species after December 20, 2022, applies regardless of whether the activity is intrastate, interstate, or international) (16 U.S.C. 3372(e)(2)(E)(ii)); and

• Not allow direct contact between the public and any big cat after the date of enactment of the BCPSA (16 U.S.C. 3372(e)(2)(E)(iii)).

To meet the requirements under 16 U.S.C. 3372(e)(2)(E), the big cat(s) in the registrant's possession must:

• Have been born before December 20, 2022, the date of enactment of the BCPSA, except as described below for a big cat born on or after December 20, 2022, from breeding that occurred before that date (16 U.S.C. 3372(e)(2)(E));

• Not have been acquired by the registrant after the date of enactment (i.e., was legally in the registrant's possession on or before December 20, 2022, and has remained continually in the registrant's possession) (16 U.S.C. 3372(e)(2)(E)(ii)); and

• Have been registered by the owner with the Service by no later than 180 days after the date of enactment of the BCPSA (i.e., no later than June 18, 2023) (16 U.S.C. 3372(e)(2)(E)(i)).

To register with the Service and thereby ensure compliance with these requirements for each individual big cat and ensure sufficient information to differentiate among individual big cats, the registrant must:

• Mark each individual animal of each prohibited wildlife species with a unique identifier that is either a tattoo or a microchip.

• Provide the Service with detailed information for each big cat or hybrid big cat:

1. Common name of big cat or hybrid big cat;

2. Name given to individual big cat, if applicable;

3. Genus, species, and subspecies;

4. Birthdate and date of acquisition, including supporting documentation;

5. Unique identifier information (i.e., microchip or tattoo);

6. Sex;

7. Description (e.g., eye color, scars, ear tags);

8. Photographs of big cat;

9. Physical location of individual big cat (if different from registrant's contact information);

10. Protocols taken to prevent intentional or unintentional breeding;

11. Protocols taken to prevent direct contact between the public and prohibited wildlife species; and

12. Copies of all local, State, or Federal licenses held in relation to the big cats, if applicable.

• Update the registration with the Service within 10 calendar days when a big cat dies or when there is any change in:

1. The location where the big cat is housed;

2. Protocols taken to prevent breeding;

3. Protocols taken to prevent direct contact between the public and big cat;

4. Ownership; or

5. Unique identifier.

As has previously been the case for excepted wildlife sanctuaries, excepted USDA-licensed entities, USDA-registered Federal facilities, and registered pre-BCPSA owners will also be required to maintain records of their BCPSA activities with big cats.

The Service recognizes that some big cats may have been conceived before the effective date of the BCPSA that were subsequently born on or after the effective date of the BCPSA. The BCPSA provides for registration under 16 U.S.C. 3372(e)(2)(E) by an individual or entity in possession of one or more big cats born before the effective date of the BCPSA. If a big cat is not registered, then it may not be possessed by its owner under the limited exception of 16 U.S.C. 3372(e)(2)(E); and, if each big cat owned by a registrant is not registered by the statutory deadline (i.e., no later than June 18, 2023), then the registrant does not qualify to possess any of their big cats under 16 U.S.C. 3372(e)(2)(E). However, the BCPSA does not specifically address big cats born on or after the effective date of the BCPSA from breeding that occurred before the effective date of the BCPSA.

As noted above, the exception in 16 U.S.C. 3372(e)(2)(E) is intended to allow current owners of big cats to keep big cats that were legally in their possession at the time of enactment of the BCPSA, if they register their big cats and comply with the BCPSA, including by not breeding any big cats on or after the effective date of the BCPSA (H. Rept. No. 117-428, p. 17, July 22, 2022). The BCPSA was not intended to retroactively prohibit breeding that occurred before the enactment of the BCPSA (See Vartelas v. Holder, 566 U.S. 257 (2012) (recognizing deeply rooted presumption against retroactive application of legislation unless Congress has unambiguously instructed retroactivity).). Under the requirements of 16 U.S.C. 3372(e)(2)(E)(ii)-(iii), after December 20, 2022, the registrant is prohibited from breeding, acquiring, or selling big cats, and from allowing direct contact between the public and big cats. The BCPSA requires that, to keep and possess the parent under the limited exception of 16 U.S.C. 3372(e)(2)(E), the owner must register the parent and each big cat legally in the owner's possession (16 U.S.C. 3372(e)(2)(E)(i)), which the Service reads to include any cub conceived before but born to the parent after the enactment of the BCPSA.

Recognizing these intentions, and to avoid a reading of the BCPSA that would lead to an impossibility for some current owners of big cats both to comply with the law and retain possession of big cats that were born on or after the effective date of the BCPSA from breeding that occurred legally before the effective date of the BCPSA, such big cats will be considered eligible for registration under 16 U.S.C. 3372(e)(2)(E)(i). In addition to meeting all the other requirements above, such big cats may be registered if the registrant includes documentation demonstrating that the conception of the big cat occurred before the date of enactment of the BCPSA (December 20, 2022). The gestation period for all big cats is substantially less than the 180-day registration period provided in the BCPSA, meaning that any owners of big cats that are affected still must meet the statutory deadline to register (June 18, 2023). Accordingly, except as otherwise provided by the BCPSA (16 U.S.C. 3372(e)(2)(A)-(D)), possession of any big cat born on or after December 20, 2022, violates the BCPSA, unless: Documentation is provided to prove the big cat was born on or after December 20, 2022, from breeding that occurred before December 20, 2022, and all other registration requirements of 16 U.S.C. 3372(e)(2)(E) are met as described above.

This reading of the BCPSA recognizes that a prerequisite for registration under 16 U.S.C. 3372(e)(2)(E) is ownership of one or more big cats born before the enactment of the BCPSA. However, reading the provisions of 16 U.S.C. 3372(e)(2)(E) and subparagraphs (i)-(iii) together, Congress did not intend to prohibit registration of the cubs of such big cats legally bred before the enactment of the BCPSA, provided they and all other big cats owned by the registrant were not acquired by the owner after December 20, 2022, are registered by June 18, 2023, and are not bred, sold, or allowed in direct contact with the public after December 20, 2022. The public safety and conservation purposes of the BCPSA are met through this reading, because: All pre-BCPSA owners of prohibited wildlife species that do not qualify for another BCPSA exception are required to register each of their big cats to continue to possess them and must not allow them to come into direct contact with the public; no new breeding, acquisition, or sale of prohibited wildlife species by registrants may occur after the enactment of the BCPSA; and no new cubs resulting from such prohibited breeding, acquisition, or sale may be registered.

An alternative reading that is not adopted by this rulemaking would preclude a pre-BCPSA owner from registering big cats conceived before the date of enactment of the BCPSA, that were subsequently born on or after the date of enactment of the BCPSA, even though such big cats were not bred or acquired in violation of the BCPSA. The alternative reading would therefore subject the pre-BCPSA owner to potential penalties and their big cats to forfeiture under the BCPSA, through engaging in no prohibited action other than continued possession of the cub after it is born. The pre-BCPSA owner's only options would be to abandon the cub to the Federal Government or donate it to a BCPSA-excepted exhibitor, State college, State university, State agency, State-licensed veterinarian, or wildlife sanctuary. The legislative history of the BCPSA does not indicate that this alternative reading was the intent of Congress in enacting the BCPSA.

Once registered, it remains the responsibility of registrants and other individuals or entities engaging in otherwise prohibited activities under a BCPSA exception to follow all local, territorial, Tribal, State, and Federal laws and regulations for possession of and other activities with prohibited wildlife species. Registration and other exceptions under the BCPSA do not constitute authorization to engage in any activity prohibited by such laws and regulations. For example, most big cats are listed as either endangered or threatened under the Endangered Species Act, and take of such species and their offspring is prohibited, with limited exceptions for take authorized by statute, regulation, or permit (16 U.S.C. 1531 et seq.; 50 CFR part 17). The legislative history is clear that where State laws have varied in their restrictions on commerce in or possession, breeding, or use (including public contact) of big cats, the BCPSA establishes uniform Federal policy, and Congress intended the BCPSA to supersede or preempt State law under the Supremacy Clause of the Constitution to the extent that it may permit what is prohibited by the BCPSA with regard to commerce in, possession, breeding, or use (including public contact) of big cats (H. Rept. No. 117-428, pp. 4, 32; July 22, 2022).

For any individual or entity that does not qualify for another BCPSA exception, does not qualify for the pre-BCPSA exception, does not want to register, or otherwise no longer wishes to possess their big cat, there are responsible options available to comply with the BCPSA. The pre-BCPSA exception at 16 U.S.C. 3372(e)(2)(E) does not allow pre-BCPSA owners to acquire additional big cats after December 20, 2022. They may register their pre-BCPSA big cats only to continue to possess their pre-BCPSA big cats; they may not acquire big cats from other owners. Therefore, such persons may make arrangements to donate their big cat to another person or entity that qualifies to possess big cats under one of the other exceptions of the BCPSA outlined in 16 U.S.C. 3372(e)(2)(A)-(C). Pursuant to the requirements of the BCPSA, the disposition transaction must not be reasonably likely to result in economic use, gain, or benefit, including, but not limited to, profit (whether in cash or in kind). As noted above, these are qualifying entities exhibiting animals to the public under a Class C license from the USDA, or a Federal facility registered with the USDA that exhibits animals; State colleges, State universities, State agencies, or State-licensed veterinarians; or a qualifying wildlife sanctuary.

Each person involved in an otherwise prohibited activity must qualify for a BCPSA exception that applies to that activity for the activity to be excepted from BCPSA prohibitions. A licensed exhibitor that qualifies under 16 U.S.C. 3372(e)(2)(A) may, for example, sell to, purchase from, or engage in a breeding loan with another licensed exhibitor that qualifies under 16 U.S.C. 3372(e)(2)(A). However, for example, in accordance with 16 U.S.C. 3372(e)(1), (e)(2)(C), and (e)(2)(E), a licensed exhibitor may not sell to, purchase from, or engage in a breeding loan with a person or entity that does not qualify for a BCPSA exception, a wildlife sanctuary, or an individual or entity that registers under the pre-BCPSA exception. This is the case because a person who does not qualify for a BCPSA exception, a wildlife sanctuary, or an individual or entity that registers under the pre-BCPSA exception may neither engage in commerce with big cats nor breed big cats.

For additional example, under the BCPSA a prohibited wildlife species may not be exported from the United States to a foreign entity except for purposes of reintroduction to the wild in coordination with and under the authority of a foreign government. The BCPSA, and the CWSA it amends, are intended to regulate activities with big cats in captivity; they are not intended to foreclose the possibility of reintroduction to the wild, if the need and opportunity arise in the future for such conservation activities. The only foreign entity that might qualify for a BCPSA exception to possess the wildlife in captivity would be a wildlife sanctuary under 16 U.S.C. 3372(e)(2)(C), and at this time we have no ability to verify and enforce compliance with the requirements of the BCPSA for a potential foreign wildlife sanctuary. Thus, at this time we would be unable to issue a permit to authorize export to a foreign entity for holding in captivity, even if all of the other requirements of subchapter B of chapter I of title 50 CFR are met (including parts 13, 14, 17, and 23). We will consider comments on whether our final regulations should include provisions for establishing comity agreements with foreign governments to allow for transfer of big cats to a foreign wildlife sanctuary that meets all of the requirements of 16 U.S.C. 3372(e)(2)(C). On the other hand, we may be able to authorize import of prohibited wildlife species to an entity that qualifies for a BCPSA exception under 16 U.S.C. 3372(e)(2)(A)-(C) if all of the other requirements of subchapter B of chapter I of title 50 CFR are met (including parts 13, 14, 17, and 23).

The Service is not presently aware of specific issues with the management of prohibited wildlife species possessed by State colleges, State universities, State agencies, or State-licensed veterinarians under the BCPSA exception at 16 U.S.C. 3372(e)(2)(B). However, consistent with the BCPSA at 16 U.S.C. 3376, the Service intends to consult with relevant State agencies on whether there should be any uniform recordkeeping requirements for State colleges, State universities, State agencies, or State-licensed veterinarians, which might later be included in the regulations. To meet the deadline for the 180-day registration period, we have been unable to engage in such consultations prior to publication of this interim rule and accordingly have made no changes to the regulatory requirements for State colleges, State universities, State agencies, or State-licensed veterinarians at this time.

As outlined above, exhibitors with valid USDA Class C licenses and Federal facilities registered with USDA are excepted from the BCPSA registration requirement. However, they are prohibited by the BCPSA from allowing direct physical contact with their big cats, except under one of three conditions outlined in the statute. The first two exceptions cover necessary physical contact by an individual who is (1) a trained professional employee or contractor of the USDA-licensed entity or USDA-registered Federal facility (or an accompanying employee receiving professional training) or (2) a licensed veterinarian (or a veterinary student accompanying such veterinarian) (16 U.S.C. 3372(e)(2)(A)(i)(I)-(II)). Finally, the BCPSA provides an exception if there is direct physical contact necessary for the conservation of the species (16 U.S.C. 3372(e)(2)(A)(i)(III)).

Under that limited conservation exception, the physical contact by the individual must be necessary to directly support conservation programs of the entity or facility, must not be in the course of commercial activity (as evidenced by advertisement or promotion of such activity or other relevant evidence), and must only be incidental to humane husbandry conducted pursuant to a species-specific, publicly available, peer-edited population management and care plan with necessary justifications, which has been provided to the Service for review and approval in accordance with the BCPSA. For example, a financial conservation contribution (whether through ticket sales, donation, or otherwise) in exchange for physical contact with big cats does not qualify for an exception under the BCPSA because it would be incompatible with these requirements and the purposes of the statute. In considering direct physical contact with big cats that would be allowed under such population management and care plans consistent with the conservation purposes of the exception, we anticipate that it could be by a trained professional employee or contractor of another excepted entity or facility operating in accordance with the approved plan, or by a third party researcher in the course of bona fide scientific research on the conservation of big cat species and in accordance with the approved plan.

We invite comments on elements that should be included in population management and care plans under the BCPSA, including the scenarios under which an individual who is not a trained professional employee or contractor of the entity or facility, or licensed veterinarian, would need to come into direct physical contact with the prohibited wildlife species to directly support conservation of the species. We also invite comments on whether any of the terms in 16 U.S.C. 3372(e)(2)(A)(i)(III) require further regulatory definition to ensure successful implementation of population management and care plans in accordance with the conservation purposes of this BCPSA exception. See Public Comments below for more information.

Required Determinations

Clarity of This Rule: Executive Orders 12866 and 12988 and the Presidential Memorandum of June 1, 1998, require us to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Regulatory Planning and Review—Executive Orders 12866, 13563, and 14094: Executive Order 14094 reaffirms the principles of E.O. 12866 and E.O. 13563 and states that regulatory analysis should facilitate agency efforts to develop regulations that serve the public interest, advance statutory objectives, and are consistent with E.O. 12866, E.O. 13563, and the Presidential Memorandum of January 20, 2021 (Modernizing Regulatory Review). Regulatory analysis, as practicable and appropriate, shall recognize distributive impacts and equity, to the extent permitted by law. We have developed this interim rule in a manner consistent with these requirements.

E.O. 12866, as reaffirmed by E.O. 13563 and E.O. 14094, provides that the Office of Information and Regulatory Affairs (OIRA) in the Office of Management and Budget (OMB) will review all significant rules. OIRA has determined that this rulemaking action is significant.

The Service is proceeding under the emergency provision at E.O. 12866 section 6(a)(3)(D) based on the need to move expeditiously to implement the new prohibitions and exceptions enacted under the BCPSA. For transparency, the Service is presenting potential impacts of this interim rule, which implements the statutory directive as enacted under the BCPSA. The Service has minimal regulatory discretion because the statutory requirements are self-implementing even in the absence of the regulatory action. To clarify these impacts, we use two baselines: (1) a pre-statutory baseline showing the substantial portions of the impacts are a result of the statute, and (2) a post-statutory baseline showing the minimal discretionary elements of the action.

As noted above, the BCPSA applies to live specimens of “prohibited wildlife species” (also referred to as “big cats”), which includes the following big cat species, or hybrids of any of these species: lion, tiger, leopard, snow leopard, clouded leopard, jaguar, cheetah, and cougar. Current law prohibits the import, export, purchase, sale, receipt, transport, or acquisition of big cats in interstate or foreign commerce, including across State lines or the national border. State regulations are fragmented, and there are no standardized databases on private ownership.

The BCPSA set forth new prohibitions on breeding, possession, and import, export, purchase, sale, receipt, transport, or acquisition of big cats in a manner substantially affecting interstate or foreign commerce, including intrastate activities. The BCPSA also revised exceptions for USDA-licensed/registered exhibitors, specifying applicable USDA-licensing/registration requirements and establishing requirements to disallow physical contact with the public; revised exceptions for wildlife sanctuaries by prohibiting transport offsite for display; and established new exceptions for registered owners of big cats owned on the date of enactment (December 20, 2022), including prohibiting registered pre-BCPSA owners from breeding, acquiring, or selling any big cats, or allowing their big cats to come into physical contact with the public.

U.S. market data for these regulated categories are not typically collected; however, the Congressional Budget Office (CBO) compiled a cost estimate to accompany the U.S. House Report 263 and BCPSA (July 2022).¹ All estimates are from the CBO cost estimate to depict the interim rule's impacts for the pre-statutory baseline scenario. CBO does not indicate the dollar year for the estimates. The CBO report does not identify any of the data sources informing its cost estimates nor how it otherwise produced its estimates of forgone income. CBO states all cost estimates are forgone revenue. Under the pre-statutory baseline, CBO estimates that some businesses (such as zoos and exhibitors) that own big cats will incur costs. The bulk of these costs will be incurred by businesses that allow direct contact between the public and prohibited wildlife species. CBO estimates that 30 exhibitors and 150 privately owned facilities offer physical contact with big cats. Under the BCPSA, CBO estimates the cost of prohibiting these encounters would be $80 million annually in forgone income. Additionally, CBO estimates licensed owners and trainers that offer big cats for movies would incur costs of $20 million annually in forgone income.

¹ The U.S. House Report 263 and the CBO's cost estimate are available in the docket on www.regulations.gov. They are also available at https://www.govinfo.gov/content/pkg/CRPT-117hrpt428/pdf/CRPT-117hrpt428.pdf and https://www.cbo.gov/system/files/2022-07/hr0263_0.pdf.

It is unknown whether exhibitors or facilities will choose to continue encounters and ensure that no member of the public comes into direct physical contact with the animals and ensure that, during public exhibition of a lion, tiger, leopard, snow leopard, jaguar, cougar, or any hybrid thereof, the animal is at least 15 feet from members of the public unless there is a permanent barrier sufficient to prevent public contact, as required under the BCPSA. Facilities are not required to upgrade their infrastructure unless doing so is necessary to meet the requirements of 16 U.S.C. 3372(e)(2)(A) to prevent public contact based on the activities in which they choose to engage with big cats. CBO does not estimate costs that would be incurred to ensure no direct physical contact with the public and that during exhibition the public remains 15 feet away from the animals or the cost of a permanent barrier sufficient to prevent public contact. Furthermore, transporting and displaying big cats will also be prohibited unless excepted under the BCPSA, but CBO does not estimate the cost incurred due to this prohibition. CBO estimates the costs for current private owners of big cats owned on the date of the statute's enactment. Examples of exceptions under the BCPSA include exhibitors with USDA Class C licenses, State agencies, State colleges, State universities, State-licensed veterinarians, and wildlife sanctuaries. Additionally, under the BCPSA, an exception is provided for possession by registered pre-BCPSA owners, who are prohibited from breeding, acquiring, or selling any big cats, or allowing their big cats to come into physical contact with the public. According to CBO, forgone revenue of approximately $1.6 million may be incurred by private owners due to the prohibition of breeding, acquiring, and selling big cats because about 200 cubs with an average value of $8,000 each will no longer be allowed to be bred, bartered, traded, or sold. CBO states that the value of cubs was derived from industry sources. CBO does not estimate forgone revenue incurred by private owners that can no longer sell adult big cats. The statute requires that protocols also be taken to prevent breeding, which could include sterilization, segregating by sex, or other methods. CBO does not estimate the cost of these protocols, and it is unknown how private owners will choose to prevent breeding. Furthermore, current private owners will be required to register their big cats by June 18, 2023, and the House report estimates 20,000 big cats are currently in private ownership in the United States. CBO expects registration costs for current owners that do not sell or trade big cats to be small. Estimating the black market and illegal trade is beyond the scope of this analysis.

The Service estimates approximately $259,000 to administer the information collection ($17,000 for amendment and recordkeeping activities and $242,000 for law enforcement activities). While the number of future enforcement actions is unknown, CBO estimates that the Service would incur costs of less than $500,000 annually after 2023 to maintain the registration database and conduct enforcement.

Under the pre-statutory baseline, benefits are expected to accrue due to the consistent regulations for big cats, which the Service presumes to include increased benefits to the general public in knowing that big cats will be taken care of and individual workers will be protected from risk of injury from big cats for which they provide care. According to the Animal Legal and Historical Center at Michigan State University, 20 States prohibit the private possession of wild or exotic pets, 27 States have a partial ban on possession of big cats or require permits for their possession, and 3 States have no ban (but may require health certificates or import permits).² The House report notes that privately owned big cats typically live in inadequate conditions that also threaten public safety. It references a Humane Society of the United States publication noting that, since 1990, around 300 dangerous incidents involving big cats in the United States have resulted in human injuries, mauling, and death. The Humane Society publication highlights a number of incidents, including a county caseworker bitten by a cougar at a private home, a child mauled by a cougar at a relative's home, a volunteer bitten by an adult tiger at a big cat rescue center, and a child clawed by a leopard during an encounter at a zoo.

² https://www.animallaw.info/content/map-private-exotic-pet-ownership-laws.

Furthermore, big cats are often purchased when young, and many owners are unable to cope with the high-maintenance needs of mature big cats. The report points out that the burden of caring for big cats that have been abandoned because they are too dangerous to keep or too expensive to care for properly often lands on already financially strained sanctuaries or humane societies. The CBO report does not quantify these costs. While many wildlife sanctuaries depend on donations to support the abandoned big cats, it is beyond the scope of this analysis to estimate the willingness to pay among the general population to avoid big cats being euthanized versus adopted by a sanctuary. If there are fewer abandoned big cats, then there may be a reduced cost for sanctuaries supporting big cats. It is beyond the scope of this analysis to estimate the benefit of reducing costs for sanctuaries.

Under the post-statutory baseline, the Service has not added any additional measures beyond those necessary to implement the requirements of the BCPSA. The Service is incorporating the new prohibitions, requirements, and exceptions of the BCPSA into its regulations. To comply with the BCPSA's requirements for each registrant and each individual big cat, and to ensure sufficient information to differentiate among individual big cats, to register with the Service, the registrant must mark each individual big cat with a unique identifier that is either a tattoo or a microchip. Each registrant must also provide the Service with detailed identifying information for each big cat and information regarding compliance with protocols taken to prevent breeding and direct contact between the public and prohibited wildlife species, and update this information when changes occur. As noted above, the approved BCPSA registration form is available on the Service website at: https://www.fws.gov/media/3-200-11-big-cat-public-safety-act-registration-form. BCPSA-excepted USDA-licensed entities, USDA-registered Federal facilities, wildlife sanctuaries, and registered pre-BCPSA owners will be required to maintain records of their BCPSA activities with big cats and provide access to their big cats and big cat facilities by Service officials at reasonable hours to ensure ongoing compliance with all requirements of these limited BCPSA exceptions. The Service's registration and record maintenance processes ensure the public is in compliance with the BCPSA. All incurred costs and benefits are due to the statute and not any of the Service's discretionary actions under the interim rule.

This rule will not create inconsistencies with other agencies' actions. We are the lead Federal agency regulating international wildlife trade, the issuance of permits to conduct activities affecting federally protected wildlife and their habitats, and carrying out the United States' obligations under CITES. Therefore, this rule has no effect on other agencies' responsibilities and will not create inconsistencies with other agencies' actions.

This rule will not materially affect entitlements, grants, user fees, loan programs, or the rights and obligations of their recipients. This rule will not change the fee schedule for any permits issued by the Service or any licenses or registrations issued by the USDA.

This rule is based upon Congress' passage of the BCPSA, which reflects a heightened concern for public safety resulting from the use of big cats as pets and the increased risk of danger to members of the public when given opportunities for direct contact with big cats. This rule would decrease the risk to public safety as is reflected in the Humane Society report cited in the House report as discussed previously. This rulemaking does not establish new prohibitions for big cats outside of those already established by statute. As directed by Congress' passage of the BCPSA, this rulemaking includes the BCPSA's new registration requirement. This rulemaking will update the regulations to conform to the new statutory requirements and enable affected members of the public to comply with the statute's requirement to register big cats that fall under the statute's pre-BCPSA exception by June 18, 2023.

Regulatory Flexibility Act (5 U.S.C. 601 et seq.) and Small Business Regulatory Enforcement Fairness Act (5 U.S.C. 804(2)): The Regulatory Flexibility Act (RFA) generally requires that when an agency issues a proposed rule, or a final rule pursuant to section 553(b) of the Administrative Procedure Act (APA) or another law, the agency must prepare a regulatory flexibility analysis that meets the requirements of the RFA and publish such analysis in the Federal Register (5 U.S.C. 603, 604). Specifically, the RFA normally requires agencies to describe the impact of a rulemaking on small entities by providing a regulatory impact analysis that determines whether impacts exceed a threshold for “significant impact” and a threshold for a “substantial number of small entities.” Under the interim rule, impacted small entities include zoos (North American Industry Classification System (NAICS) 712130) with receipts less than $34 million and travelling exhibits (NAICS 712110) with receipts less than $34 million. As noted previously, all impacts under the interim rule are due to the statute and not the Service's discretionary actions.

As discussed below in the Need for Interim Rule section, consistent with the APA, the Service has determined for good cause that general notice and opportunity for public comment is impracticable, unnecessary, and contrary to the public interest, and, therefore, the Service is not issuing a notice of proposed rulemaking. Rules that are exempt from notice and comment are also exempt from the RFA requirements, including conducting a regulatory flexibility analysis, when among other things the agency for good cause finds that notice and public procedure are impracticable, unnecessary, or contrary to the public interest (Small Business Administration's Office of Advocacy guide: How to Comply with the Regulatory Flexibility Act, Ch. 1, p. 9 (August 2017)). Accordingly, the Service is not required to conduct a regulatory flexibility analysis.

Unfunded Mandates Reform Act (2 U.S.C. 1501 et seq.): Under the Unfunded Mandates Reform Act (2 U.S.C. 1501 et seq.), this rule will have no effects. This rule will not significantly or uniquely affect small governments. A small government agency plan is not required. We are the lead Federal agency regulating international wildlife trade, the issuance of permits to conduct activities affecting federally protected wildlife and their habitats, and carrying out the United States' obligations under CITES. No small government assistance or impact is expected as a result of this rule.

This rule will not produce a Federal requirement that may result in the combined expenditure by State, local, or Tribal governments of $100 million or greater in any year, so it is not a “significant regulatory action” under the Unfunded Mandates Reform Act. This rule will not result in any combined expenditure by State, local, or Tribal governments.

Executive Order 12630 (Takings): Under Executive Order 12630, this rule does not have significant takings implications or affect any constitutionally protected property rights. We have analyzed this regulation under Executive Order 12630 and have determined that it does not result in takings: This rule will not result in physical occupancy of property or physical invasion of property by the Government or in a regulatory taking. This rule is based upon Congress' passage of the BCPSA.

Executive Order 13132 (Federalism): Under Executive Order 13132, this rule does not have significant federalism effects. This rule is based upon Congress' passage of the BCPSA. The legislative history is clear that where State laws have varied in their restrictions on commerce in or possession, breeding, or use (including public contact) of big cats, the BCPSA establishes uniform Federal policy, and Congress intended the BCPSA to supersede or preempt State law under the Supremacy Clause of the Constitution to the extent that it may permit what is prohibited by the BCPSA with regard to commerce in, possession, breeding, or use (including public contact) of big cats (H. Rept. No. 117-428, pp. 4, 32; July 22, 2022). Therefore, a federalism assessment is not required.

Executive Order 12988 (Civil Justice Reform): Under Executive Order 12988, the Office of the Solicitor has determined that this rule does not overly burden the judicial system and that it meets the requirements of sections 3(a) and 3(b)(2) of the Order. Specifically, this rule has been reviewed to eliminate errors and ensure clarity, has been written to minimize lawsuits, provides a clear legal standard for affected actions, and specifies in clear language the effect on existing Federal law or regulation.

Paperwork Reduction Act: This interim rule contains existing and new information collections. All information collections require approval under the Paperwork Reduction Act of 1995 (44 U.S.C. 3501 et seq.). We may not conduct or sponsor and you are not required to respond to a collection of information unless it displays a currently valid Office of Management and Budget (OMB) control number.

On March 20, 2023, we published in the Federal Register (88 FR 16657) a notice of our intent to request that OMB approve our request for emergency clearance of information collections associated with the BCPSA. OMB reviewed and approved the emergency clearance request associated with the initial registration and registration amendment information collections and assigned OMB Control Number 1018-0192, “Big Cat Public Safety Act Registration” (expires 10/31/2023). OMB previously reviewed and approved the recordkeeping requirements under the CWSA and assigned OMB Control Number 1018-0129, “Captive Wildlife Safety Act, 50 CFR 14.250-14.255” (expires 07/31/2025).

In an effort to increase public awareness of, and participation in, our public commenting processes associated with information collection requests, the Service also posted the Federal Register notice on Regulations.gov (Docket No. FWS-HQ-IA-2023-0031) to provide the public with an additional method to submit comments (in addition to the typical Info_Coll@fws.gov email and U.S. mail submission methods). As of May 19, 2023, we received the following comments in response to the Federal Register notice:

Comment 1: Electronic comment received March 20, 2023, via Regulations.gov (FWS-HQ-IA-2023-0031-0002) from Jean Publiee. The commenter expressed concern about exhibition of cats in the United States and trophy hunting of large cats outside of the United States.

Agency Response to Comment 1: We consider this comment to be beyond the scope of this information collection request. As part of our continuing effort to reduce paperwork and respondent burdens, we have invited the public and other Federal agencies to comment on this new collection of information. The comment did not address the information collections. We did not make any changes to our approval request to OMB as a result of this comment.

Comment 2: Electronic comment received March 20, 2023, via Regulations.gov (FWS-HQ-IA-2023-0031-0003) from Jean Publiee. The commenter provided a personal commentary regarding the Service's conservation efforts and other agency's land management practices.

Agency Response to Comment 2: We consider this comment to be beyond the scope of this information collection request. As part of our continuing effort to reduce paperwork and respondent burdens, we have invited the public and other Federal agencies to comment on this new collection of information. The comment did not address the information collections. We did not make any changes to our approval request to OMB as a result of this comment.

Comment 3: Anonymous electronic comment received March 21, 2023, via Regulations.gov (FWS-HQ-IA-2023-0031-0004). The commenter submitted an inquiry regarding the Federal Government's role in the regulation of intrastate ownership and breeding of big cats.

Agency Response to Comment 3: We consider this comment to be beyond the scope of this information collection request. The information collection is required to implement the registered pre-BCPSA owner exception of the BCPSA (16 U.S.C. 3372(e)(2)(E)). Additionally, the BCPSA, at 16 U.S.C. 3376(a)(3), provides that the Secretary shall promulgate any regulations necessary to implement the prohibitions and exceptions of the BCPSA (16 U.S.C. 3372(e)). As part of our continuing effort to reduce paperwork and respondent burdens, we have invited the public and other Federal agencies to comment on this new collection of information. The comment did not address the information collections. We did not make any changes to our approval request to OMB as a result of this comment.

Comment 4: Anonymous electronic comment received March 24, 2023, via Regulations.gov (FWS-HQ-IA-2023-0031-0008 duplicated at FWS-HQ-IA-2023-0031-0009). The commenter submitted a question regarding concern with a possible future scenario after the BCPSA registration period where a current licensed exhibiter no longer has a USDA Class C license and, therefore, is no longer excepted from prohibitions under the BCPSA. Two additional commenters (Comment 6 and Comment 9) also raised this concern and the possibility of registering now as a backup option if a current USDA Class C license holder later no longer has a USDA Class C license.

Agency Response to Comment 4: We consider this comment to be beyond the scope of this information collection request. The BCPSA provides a one-time 180-day period from December 20, 2022, to June 18, 2023, to current private owners in which to register their big cats under the BCPSA, allowing them to keep their current animals if they register them with the Service and meet all the BCPSA requirements for a registered pre-BCPSA owner. The Service does not have discretion to extend the statutory deadline. Certain entities outlined in the statute, including exhibitors with valid USDA Class C licenses, USDA-registered Federal facilities, State agencies, State colleges and universities, State-licensed veterinarians, and sanctuaries, are excepted from the requirement to register their big cats with the Service subject to certain requirements.

There may be some circumstances where an entity that is in possession of only pre-BCPSA big cats meets the criteria of both 16 U.S.C. 3372(e)(2)(A) and (e)(2)(E). It is up to a USDA-licensed Class C exhibitor to decide if they wish to register under the BCPSA, if they meet the requirements for a registered pre-BCPSA owner. Registration would prohibit any otherwise qualifying USDA-licensed Class C exhibitor from breeding, acquiring, or selling any big cats, and any USDA-licensed Class C exhibitor that has engaged in breeding, acquiring, or selling any big cats after December 20, 2022, does not qualify for the registration exception under the BCPSA.

Please also see response to Comment 11. Under the BCPSA, if the individual no longer qualifies for an exception, then they are prohibited from possessing prohibited wildlife species. For any individual or entity that does not qualify for another BCPSA exception, does not qualify for the registered pre-BCPSA owner exception, does not want to register, or otherwise no longer wishes to possess their big cat, there are responsible options available to comply with the BCPSA. Such persons may make arrangements to donate their big cat to another person or entity that qualifies to possess big cats under one of the other exceptions of the BCPSA outlined in 16 U.S.C. 3372(e)(2)(A)-(C). As part of our continuing effort to reduce paperwork and respondent burdens, we have invited the public and other Federal agencies to comment on this new collection of information. The comments did not address the information collections, and we did not make any changes to our approval request to OMB as a result of these comments.

Comment 5: Anonymous electronic comment received March 27, 2023, via Regulations.gov (FWS-HQ-IA-2023-0031-0010). The commenter asked whether USDA C class holders are still able to legally breed and transport (across State lines) prohibited wildlife species under the BCPSA.

Agency Response to Comment 5: We consider this comment to be beyond the scope of this information collection request. Each person involved in an otherwise prohibited activity must qualify for a BCPSA exception that applies to that activity for the activity to be excepted from BCPSA prohibitions. A USDA-licensed Class C exhibitor that qualifies under 16 U.S.C. 3372(e)(2)(A) may, for example, sell to, purchase from, or engage in a breeding loan with another licensed exhibitor that qualifies under 16 U.S.C. 3372(e)(2)(A). However, for example, in accordance with 16 U.S.C. 3372(e)(1), (e)(2)(C), and (e)(2)(E), a licensed exhibitor may not sell to, purchase from, or engage in a breeding loan with a person or entity that does not qualify for a BCPSA exception, a wildlife sanctuary, or an individual or entity that registers under the registered pre-BCPSA owner exception. This is the case because a person who does not qualify for a BCPSA exception, a wildlife sanctuary, or an individual or entity that registers under the pre-BCPSA exception may neither engage in commerce with big cats nor breed big cats. As part of our continuing effort to reduce paperwork and respondent burdens, we have invited the public and other Federal agencies to comment on this new collection of information. The comments did not address the information collections, and we did not make any changes to our approval request to OMB as a result of these comments.

Comment 6: Anonymous electronic comment received April 2, 2023, via Regulations.gov (FWS-HQ-IA-2023-0031-0011). The commenter raised three issues in their comment: First, the commenter asserted that very few private owners of prohibited wildlife species have access to information to know that they need to register their cats by a certain date. Second, the commenter is also concerned about the release of information related to the names and addresses of registrants of pre-BCPSA prohibited wildlife species through Freedom of Information Act (FOIA) requests. Third, the commenter recommends reworking the grandfather clause in the BCPSA to make it fairer to owners and the captive big cats by providing a consideration for owners who no longer qualify for a USDA license.

Agency Response to Comment 6: The BCPSA was enacted December 20, 2022. As stated above, to comply with the requirements of the BCPSA, the Service provided the public with notice of the BCPSA registration form and sought OMB approval of FWS Form 3-200-11, “Registration Form—Big Cat Public Safety Act” (Pub. L. 117-243, December 20, 2022, 136 Stat. 2336), which collects information to verify eligibility to possess big cats under the BCPSA in accordance with 16 U.S.C. 3372(e)(2)(E). The BCPSA emergency information collection for the BCPSA registration form was approved and assigned OMB Control Number 1018-0192. The OMB approval is valid for only 6 months and expires October 31, 2023 (See 88 FR 16657, March 20, 2023, Agency Information Collection Activities; Big Cat Public Safety Act Registration.). The Service further announced the availability of the registration form on its website on April 18, 2023: https://www.fws.gov/media/3-200-11-big-cat-public-safety-act-registration-form. In addition to publishing notice of this information collection in the Federal Register on March 20, 2023, and posting it to the Service's website, the Service has also engaged in and continues to engage in public outreach to message requirements to the public and ensure relevant individuals and entities are aware of the requirements. We did not make any changes to our approval request to OMB as a result of this comment.

In regard to the commenter's second concern, the Service has a responsibility to protect personally identifiable information (PII) for employees and members of the public as required by the Privacy Act of 1974 (5 U.S.C. 552a). The Service has a Privacy program that ensures that all PII entrusted to the Service from members of the public, project partners, and personnel is protected and handled according to the Fair Information Practice Principles upon which the Privacy Act and other privacy legislation is based. For more information, please visit: https://www.fws.gov/program/privacy.

The third issue raised by the commenter is outside the scope of the information requested and is addressed above in Comment 4. Please see the response to Comment 4. We did not make any changes to our approval request to OMB as a result of this comment.

Comment 7: Anonymous electronic comment received April 11, 2023, via Regulations.gov (FWS-HQ-IA-2023-0031-0012). The commenter seeks additional descriptions for “permanent barrier” terminology and clarification on the “15 feet” distance requirements as required by the form. The commenter questioned how the 15-foot distance would be enforced if it is in a vertical orientation.

Agency Response to Comment 7: The information collection is to implement the registered pre-BCPSA owner exception under the BCPSA and does not specify a “permanent barrier” or 15-foot distance requirement (16 U.S.C. 3372(e)(2)(E)). The comment refers to the restriction on public contact by an exhibitor under a separate exception of the BCPSA (16 U.S.C. 3372(e)(2)(A)). That exception requires that a licensed entity or a registered Federal facility must ensure that during public exhibition of a lion (Panthera leo), tiger (Panthera tigris), leopard (Panthera pardus), snow leopard (Uncia uncia), jaguar (Panthera onca), cougar (Puma concolor), or any hybrid thereof, the animal is at least 15 feet from members of the public unless there is a permanent barrier sufficient to prevent public contact (16 U.S.C. 3372(e)(2)(A)(ii)). The BCPSA places a similar requirement on a registered pre-BCPSA owner not to allow direct contact between the public and any prohibited wildlife species (16 U.S.C. 3372(e)(2)(E)(iii)). The information collection therefore requests information on the protocols taken to prevent direct contact between the public and prohibited wildlife species to ensure compliance with this requirement.

While a registered pre-BCPSA owner may be able to provide evidence of other ways to prevent all direct contact between the public and prohibited wildlife species at all times, we consider that under the BCPSA if a registered pre-BCPSA owner ensures at all times that any big cat is at least 15 feet in every direction from any member of the public or if there is a permanent barrier sufficient to prevent public contact, then this requirement would be met. We did not make any changes to our approval request to OMB as a result of this comment.

Comment 8: Anonymous electronic comment received April 22, 2023, via Regulations.gov (FWS-HQ-IA-2023-0031-0013). The commenter provided a personal commentary on big cat ownership and referred to the BCPSA as a proposal.

Agency Response to Comment 8: The BCPSA was passed and became Public Law 117-243 on December 20, 2022. It is a law and not a proposal. This information collection will assist the public in complying with the law. We did not make any changes to our approval request to OMB as a result of this comment.

Comment 9: Electronic comment received April 22, 2023, via Regulations.gov (FWS-HQ-IA-2023-0031-0014) from Lynn Culver. The commenter expressed concern about the impacts to big cat owners due to loss of licenses if commercial activities cease. Additionally, the commenter recommended more detailed description on the registration page that addresses the status of currently exempted entities and includes encouragement to register now in order to secure a secondary exemption status that would become primary should the big cat owner end their exhibition license.

Agency Response to Comment 9: Please see response to Comment 4. We did not make any changes to our approval request to OMB as a result of this comment.

Comment 10: Anonymous electronic comment received April 23, 2023, via Regulations.gov (FWS-HQ-IA-2023-0031-0015). The commenter expressed concern about the requirement for the unique identifier of every big cat to be either a tattoo or microchip, stating that this requirement is unreasonable, unjustified, costly, and potentially deadly due to the danger of sedating big cats.

Agency Response to Comment 10: No information was provided to support the concern expressed in the comment regarding the costs associated with these identifiers or dangers of sedation for big cats for a short, minimally invasive procedure such as microchip implantation or tattoo marking. The form requests a unique identifier for registered big cats, which will allow the animals to be readily and accurately identified and prevent laundering of unregistered big cats. This requirement is necessary to accurately identify individual animals in compliance with the registered pre-BCPSA owner exception (16 U.S.C. 3372(e)(2)(E)). We did not make any changes to our approval request to OMB as a result of this comment.

Comment 11: Anonymous electronic comment received April 24, 2023, via Regulations.gov (FWS-HQ-IA-2023-0031-0016). The commenter expressed concern about the legality of the BCPSA registration form and regulation of intrastate activities due to the reference to intrastate activity, whereas this term is not included in 16 U.S.C. 3372(e)(2)(E)(ii).

Agency Response to Comment 11: The text of the BCPSA sets forth the requirement that, in order to qualify for the registered pre-BCPSA owner exception to the BCPSA prohibition on possession, the registrant must not “breed, acquire, or sell any prohibited wildlife species after December 20, 2022” (16 U.S.C. 3372(e)(2)(E)(ii)). The plain text of this statutory requirement is without limitation to whether the activity is intrastate, interstate, or international. We did not make any changes to our approval request to OMB as a result of this comment.

Comment 12: Electronic comment received April 26, 2023, via Regulations.gov (FWS-HQ-IA-2023-0031-0017) from Lynn Culver. The commenter expressed concern that there are “practically” no privately owned big cats in the United States and those held in facilities with USDA Class B status should be exempted once they are registered. The commenter also claims genetic diversity of big cat species is facing a crisis and will become a greater issue if USDA Class B facilities are prohibited.

Agency Response to Comment 12: This information collection will assist the public in complying with the law. With the exception of cost estimates, we consider the points raised in this comment to be beyond the scope of this information collection request. The BCPSA provides a one-time 180-day period from December 20, 2022, to June 18, 2023, to current private owners in which to register their big cats under the BCPSA, allowing them to keep their current animals if they register them with the Service and meet all the BCPSA requirements for a registered pre-BCPSA owner. The Service does not have discretion to extend the statutory deadline.

Certain entities outlined in the statute, including exhibitors with valid USDA Class C licenses, are excepted from the requirement to register their big cats with the Service subject to certain requirements. The Service does not have discretion to extend the BCPSA's exhibitor exception for qualifying holders of Class C licenses (16 U.S.C. 3372(e)(2)(A)) to holders of Class B licenses. Under the BCPSA, individuals who do not qualify for an exception are prohibited from possessing prohibited wildlife species. We did not make any changes to our approval request to OMB as a result of this comment.

Regarding cost estimates, we estimate that we will receive 7,263 responses totaling 7,263 burden hours. We estimate the dollar value of the burden hours for the initial registration will be $299,577. After the initial registration, the annual cost for recordkeeping and reporting will drop substantially. We did not make any changes to our approval request to OMB as a result of this comment.

Comment 13: Anonymous electronic comment received May 15, 2023, via Regulations.gov (FWS-HQ-IA-2023-0031-0018). The commenter urged the Service to protect big cats and the general public.

Agency Response to Comment 13: We consider this comment to be beyond the scope of this information collection request. As part of our continuing effort to reduce paperwork and respondent burdens, we have invited the public and other Federal agencies to comment on this new collection of information. The comment did not address the information collections. We did not make any changes to our approval request to OMB as a result of this comment.

Comment 14: Anonymous electronic comment received May 15, 2023, via Regulations.gov (FWS-HQ-IA-2023-0031-0019). The commenter states that cheetahs and clouded leopards are not included under the BCPSA and asks why the Service is requiring them to be registered.

Agency Response to Comment 14: As previously stated, “prohibited wildlife species” (also referred to as “big cats”) is defined by statute as “any live species of lion, tiger, leopard, cheetah, jaguar, or cougar or any hybrid of such species” (16 U.S.C. 3371(h)). These are the following species, or hybrids of any of these species: lion (Panthera leo), tiger (Panthera tigris), leopard (Panthera pardus), snow leopard (Uncia uncia), clouded leopard (Neofelis nebulosa), jaguar (Panthera onca), cheetah (Acinonyx jubatus), and cougar (Puma concolor) (50 CFR 14.252).

The comment refers to the restriction on public contact by an exhibitor under a specific exception of the BCPSA, 16 U.S.C. 3372(e)(2)(A)(ii). The exception requires that a licensed entity or a registered Federal facility must ensure that, during public exhibition of a lion (Panthera leo), tiger (Panthera tigris), leopard (Panthera pardus), snow leopard (Uncia uncia), jaguar (Panthera onca), cougar (Puma concolor), or any hybrid thereof, the animal is at least 15 feet from members of the public unless there is a permanent barrier sufficient to prevent public contact (16 U.S.C. 3372(e)(2)(A)(ii)). This specific provision does not apply to clouded leopard, cheetah, or hybrids of only those two species. The provisions at 16 U.S.C. 3372(e)(2)(A)(ii) apply to all other prohibited wildlife species, including for example, if a clouded leopard or cheetah were hybridized with another big cat species. We did not make any changes to our approval request to OMB as a result of this comment.

Comment 15: Electronic comment received May 18, 2023, via Regulations.gov (FWS-HQ-IA-2023-0031-0020) from Lynn Culver. The commenter questioned why an exhibitor that may at some point in the future become a USDA-licensed C exhibitor should be required to sign a certification statement on Form 3-200-11, “Registration Form—Big Cat Public Safety Act” certifying that they will not breed, acquire, or sell any big cat after December 20, 2022, if they may in the future be eligible for an exception under the BCPSA.

Agency Response to Comment 15: To meet the requirements of 16 U.S.C. 3372(e)(2)(E)(ii), a registrant is required to certify that they have not bred, acquired, or sold and will not breed, acquire, or sell any big cat after December 20, 2022. As noted in response to Comment 4, there may be some circumstances where an entity that is in possession of only pre-BCPSA big cats meets the criteria of both 16 U.S.C. 3372(e)(2)(A) and 16 U.S.C. 3372(e)(2)(E). If a registered pre-BCPSA owner later becomes a USDA-licensed Class C exhibitor, the registration requirements of 16 U.S.C. 3372(e)(2)(E)(ii) that allow for continued possession of the big cats would prohibit that registrant from breeding, acquiring, or selling any big cats after December 20, 2022. We did not make any changes to our approval request to OMB as a result of this comment.

The existing and new reporting and/or recordkeeping requirements identified below require approval by OMB under OMB Control Number 1018-0192 in conjunction with this interim rule:

(1) Discontinuation of Initial Registration Requirement—Form 3-200-11, “Registration Form-Big Cat Public Safety Act” (Pub. L. 117-243, December 20, 2022, 136 Stat. 2336)—There are no exceptions to the June 18, 2023, deadline to comply with the requirements of the BCPSA requiring registration of big cats. Therefore, effective June 19, 2023 (or on the date of OMB approval of this submission), we are requesting OMB approval to discontinue the previously approved information collection associated with the initial registration.

(2) Amendments—Form 3-200-11, “Registration Form-Big Cat Public Safety Act” (Pub. L. 117-243, December 20, 2022, 136 Stat. 2336)—Following the initial registration, as is also required under Form 3-200-11, owners must provide the Service with updates if information concerning the registered big cats changes, as follows:

50 CFR 14.255(d)—Within 10 calendar days as required by the Service in Form 3-200-11, a registered pre-BCPSA owner must update the registration with the Service when a prohibited wildlife species dies or any of the following information changes: The location where the prohibited wildlife species is housed; the protocols taken to prevent breeding; the protocols taken to prevent direct contact between the public and big cat; ownership; or a unique identifier.

(3) Population Management and Care Plan (50 CFR 14.254(a)(3))—To qualify for an exception in § 14.257, under certain circumstances a USDA-licensed entity or USDA-registered Federal facility must provide a population management and care plan to the Service for consideration in accordance with the BCPSA (16 U.S.C. 3372(e)(2)(A)(i)(III)). If a licensed entity or registered Federal facility allows any person who is neither (1) a trained professional employee or contractor of the licensed entity (or an accompanying employee receiving professional training) nor (2) a licensed veterinarian (or a veterinary student accompanying such a veterinarian) to come into direct physical contact with prohibited wildlife, then prior to allowing any such individual to come into direct physical contact with prohibited wildlife species the conservation program of the licensed entity or registered Federal facility must meet certain requirements. One requirement is that the licensed entity or registered Federal facility must provide a species-specific, publicly available, peer-edited population management and care plan to the Director with justifications that the plan:

• Reflects established conservation science principles;

• Incorporates genetic and demographic analysis of a multi-institution population of animals covered by the plan; and

• Promotes animal welfare by ensuring that the frequency of breeding is appropriate for the species.

(4) Recordkeeping Requirements—We do not anticipate the recordkeeping requirements will impose any significant burden, because the maintenance of these records is typically a normal business practice. Therefore, complying with the requirement to make records available can likely be met by making available and copying, if needed, a small number of documents pertaining to the possession, transportation, acquisition, disposition, importation, or exportation of the prohibited wildlife species, which we estimate can be completed in an hour or less.

a. 50 CFR 14.254(c), Licensed Entity or Registered Federal Facility—To qualify for an exception in § 14.257, a licensed entity or a registered Federal facility must maintain complete and accurate records of any possession, breeding, transportation, acquisition, receipt, purchase, sale, disposition, importation, or exportation of prohibited wildlife species.

1. These records must be up to date and include the names and addresses of persons to or from whom any prohibited wildlife species has been acquired, received, imported, exported, purchased, sold, or otherwise transferred (including loans for exhibition, breeding, or otherwise), and the dates of these transactions.

2. The licensed entity or registered Federal facility must maintain these records for the lifespan of each prohibited wildlife species and for 5 years after its death or disposition and must copy these records for Service officials, if requested.

3. The licensed entity or registered Federal facility must make these records available and allow access to its facilities and its prohibited wildlife specimens for inspection by Service officials at reasonable hours.

b. 50 CFR 14.255(e), Registered Pre-BCPSA Owners—A registered pre-BCPSA owner must maintain complete and accurate records of information for each individual prohibited wildlife species in their possession as required by the Service in the BCPSA registration form (Form 3-200-11) for the lifespan of each individual prohibited wildlife species and for 5 years after its death or disposition and must copy these records for Service officials, if requested.

1. While the pre-BCPSA owner may not sell or otherwise engage in commerce with prohibited wildlife species, if the pre-BCPSA owner is no longer able to continue to possess their prohibited wildlife species, the pre-BCPSA owner may make arrangements to donate the prohibited wildlife species to a licensed entity, State college, State university, State agency, State-licensed veterinarian, or a wildlife sanctuary, or may make arrangements to abandon the prohibited wildlife species to the Federal Government. The disposition must not be reasonably likely to result in the registered pre-BCPSA owner's economic use, gain, or benefit, including, but not limited to, profit (whether in cash or in kind).

2. These records must be up to date, and the registered pre-BCPSA owner must make these records available and allow access to their facilities and prohibited wildlife specimens for inspection by Service officials at reasonable hours.

c. 50 CFR 14.256(b), Wildlife Sanctuaries—A wildlife sanctuary must maintain complete and accurate records of any possession, transportation, acquisition, receipt, disposition, importation, or exportation of prohibited wildlife species.

1. These records must be up to date and must include the names and addresses of persons to or from whom any prohibited wildlife species has been acquired, received, imported, exported, or otherwise transferred, and the dates of these transactions.

2. The wildlife sanctuary must maintain these records for the lifespan of each prohibited wildlife species and for 5 years after its death or disposition and must copy these records for Service officials, if requested.

3. The wildlife sanctuary must make these records available and allow access to its facilities and its prohibited wildlife specimens for inspection by Service officials at reasonable hours.

d. 50 CFR 14.257(a), Documentation To Transport Live Prohibited Wildlife—The prohibitions of § 14.253 do not apply to licensed entities or registered Federal facilities that meet all of the requirements of § 14.254; State colleges, State universities, or State agencies; State-licensed veterinarians; wildlife sanctuaries that meet all of the requirements of § 14.256; or persons who:

1. Can produce documentation showing that they are transporting live prohibited wildlife species solely for the purpose of expeditiously transporting the prohibited wildlife species between individuals or entities that are excepted from the prohibitions in § 14.253; and

2. Has no financial interest (whether in cash or in kind) in the prohibited wildlife species other than payment received for transporting them.

e. 50 CFR 14.257(b), Documentation of Date of Breeding—The prohibition on possession in § 14.253 does not apply to a registered pre-BCPSA owner who is in possession of any prohibited wildlife species that was:

1. Born and possessed by the registered pre-BCPSA owner before the date of enactment of the BCPSA and meets all of the requirements of § 14.255 for each of the prohibited wildlife species in their possession; or

2. Bred before and born on or after the date of enactment of the BCPSA, to a prohibited wildlife species possessed by the registered pre-BCPSA owner before the date of enactment of the BCPSA, if the registered pre-BCPSA owner provides documentation demonstrating that the breeding occurred before the date of enactment of the BCPSA, and the person meets all of the requirements of § 14.255 for each of the prohibited wildlife species in their possession.

Title of Collection: Big Cat Public Safety Act Requirements.

OMB Control Number: 1018-0192.

Form Number: 3-200-11.

Type of Review: Revision of a currently approved collection.

Respondents/Affected Public: Individuals, private sector, and State/local/Tribal governments.

Respondent's Obligation: Required to obtain or retain a benefit.

Frequency of Collection: On occasion.

Total Estimated Annual Nonhour Burden Cost: $3,016.

Type of action | Number of annual respondents | Number of responses each | Total annual responses | Average completion time (hours) | Total annual burden hours
Amendments—Form 3-200-11, “Registration Form-Big Cat Public Safety Act ”:
Reporting—Individuals | 250 | 1 | 250 | .5 | 250
Recordkeeping—Individuals |  |  |  | .5 |
Reporting—Private Sector | 250 | 1 | 250 | .5 | 250
Recordkeeping—Private Sector |  |  |  | .5 |
Population Management and Care Plan (50 CFR 14.254):
Reporting—Private Sector | 5 | 1 | 5 | .5 | 5
Recordkeeping—Private Sector |  |  |  | .5 |
Reporting—State/Local/Tribal Govt | 1 | 1 | 1 | .5 | 1
Recordkeeping—State/Local/Tribal Govt |  |  |  | .5 |
Recordkeeping—50 CFR 14.254(c) Licensed Entity or a Registered Federal Facility:
Reporting—Individuals | 500 | 1 | 500 | .25 | 500
Recordkeeping—Individuals |  |  |  | .75 |
Reporting—Private Sector | 500 | 1 | 500 | .25 | 500
Recordkeeping—Private Sector |  |  |  | .75 |
Reporting—State/Local/Tribal Govt | 1 | 1 | 1 | .25 | 1
Recordkeeping—State/Local/Tribal Govt |  |  |  | .75 |
Recordkeeping—50 CFR 14.255(d) Registered Pre-BCPSA Owners:
Reporting—Individuals | 2,500 | 1 | 2,500 | .25 | 2,500
Recordkeeping—Individuals |  |  |  | .75 |
Reporting—Private Sector | 2,500 | 1 | 2,500 | .25 | 2,500
Recordkeeping—Sector |  |  |  | .75 |
Recordkeeping—50 CFR 14.256(b) Wildlife Sanctuaries:
Reporting—Private Sector | 750 | 1 | 750 | .25 | 750
Recordkeeping—Private Sector |  |  |  | .75 |
Recordkeeping—50 CFR 14.257(a) Documentation to Transport Live Prohibited Wildlife:
Reporting—Individuals | 1 | 1 | 1 | .25 | 1
Recordkeeping—Individuals |  |  |  | .75 |
Reporting—Private Sector | 1 | 1 | 1 | .25 | 1
Recordkeeping—Private Sector |  |  |  | .75 |
Reporting—State/Local/Tribal Govt | 1 | 1 | 1 | .25 | 1
Recordkeeping—State/Local/Tribal Govt |  |  |  | .75 |
Recordkeeping—50 CFR 14.257(b) Documentation of Date of Breeding:
Reporting—Individuals | 1 | 1 | 1 | .25 | 1
Recordkeeping—Individuals |  |  |  | .75 |
Reporting—Private Sector | 1 | 1 | 1 | .25 | 1
Recordkeeping—Private Sector |  |  |  | .75 |
Reporting—State/Local/Tribal Govt | 1 | 1 | 1 | .25 | 1
Recordkeeping—State/Local/Tribal Govt |  |  |  | .75 |
Totals: | 7,263 |  | 7,263 |  | 7,263

We also propose to discontinue OMB Control Number 1018-0129 in conjunction with this interim rule:

(1) Recordkeeping—Captive Wildlife Safety Act, 50 CFR 14.250-14.255—With this submission, the interim rule amends the recordkeeping requirements contained in this collection. We propose to merge the updated recordkeeping requirements into OMB Control Number 1018-0192. Upon receiving OMB approval of the transfer request, we will discontinue OMB Control Number 1018-0129 to avoid a duplication of burden.

Title of Collection: Captive Wildlife Safety Act, 50 CFR 14.250-14.255.

OMB Control Number: 1018-0129.

Form Number: None.

Type of Review: Discontinuance of a currently approved collection.

Total Estimated Number of Annual Respondents: 750.

Total Estimated Number of Annual Responses: 750.

Estimated Completion Time per Response: 1 hour.

Total Estimated Number of Annual Burden Hours: 750.

Respondents/Affected Public: Private sector.

Respondent's Obligation: Required to obtain or retain a benefit.

Frequency of Collection: On occasion.

Total Estimated Annual Nonhour Burden Cost: $300.

Send your written comments and suggestions on these information collections by the date indicated in DATES to OMB, with a copy to the Service Information Collection Clearance Officer, U.S. Fish and Wildlife Service, MS: PRB/PERMA (JAO), 5275 Leesburg Pike, Falls Church, VA 22041-3803 (mail); or by email to Info_Coll@fws.gov. Please reference OMB Control Number 1018-0192 in the subject line of your comments.

National Environmental Policy Act: The Service has analyzed this rule under the criteria of the National Environmental Policy Act of 1969, as amended (NEPA; 42 U.S.C. 4321, et seq.), Council on Environmental Quality NEPA regulations (40 CFR parts 1500-1508), and the Department of the Interior (DOI) NEPA regulations (43 CFR part 46). This rule will not amount to a major Federal action significantly affecting the human environment. Additionally, the NEPA compliance for this rulemaking is covered under a categorical exclusion pursuant to 43 CFR 46.210(i) in that this rule implements regulations that are of an administrative or procedural nature. Therefore, preparation of an environmental assessment or an environmental impact statement is not required.

Executive Order 13175 (Tribal Consultation) and 512 DM 2 (Government-to-Government Relationship With Tribes): Under the President's memorandum of April 29, 1994, “Government-to Government Relations with Native American Tribal Governments” (59 FR 22951), Executive Order 13175, and 512 DM 2, we have evaluated possible effects on federally recognized Indian Tribes and have determined that there are no adverse effects. Individual Tribal members must meet the same regulatory requirements as other individuals who breed, possess, or import, export, transport, sell, receive, acquire, or purchase, in interstate or foreign commerce, the prohibited wildlife species.

Executive Order 13211 (Energy Supply, Distribution, or Use): Executive Order 13211 pertains to regulations that significantly affect energy supply, distribution, and use. The Executive order requires agencies to prepare statements of energy effects when undertaking certain actions. As noted above, the purpose of this rule is to implement the BCPSA by amending 50 CFR part 14, subpart K, Importation, Exportation, and Transportation of Wildlife, to incorporate the new definitions, prohibitions, and exceptions under the BCPSA. This rule is not expected to significantly affect energy supplies, distribution, or use. Therefore, this action is not a significant energy action, and no statement of energy effects is required.

Need for Interim Rule

The Administrative Procedure Act (APA) (5 U.S.C. 551 et seq.) provides that, when an agency for good cause finds that notice and public procedure are impracticable, unnecessary, or contrary to the public interest, the agency may issue a rule without providing notice and an opportunity for prior public comment. 5 U.S.C. 553(b)(B). The Service finds that there is good cause to issue this interim rule without first providing for public comment. The primary purpose of the BCPSA is to amend the Lacey Act Amendments of 1981 to clarify and update provisions enacted by the CWSA with regard to prohibited activities with prohibited wildlife species—including by adding prohibitions on possession and breeding; import, export, transport, sale, receipt, acquisition, or purchase in a manner substantially affecting interstate or foreign commerce; prohibiting otherwise excepted exhibitors, sanctuaries, and registered owners from allowing public contact with big cats, including cubs; and prohibiting attempts to commit any of these acts—to address threats to public safety posed by lions, tigers, leopards, snow leopards, clouded leopards, jaguars, cheetahs, cougars, and any hybrids thereof, particularly those currently kept in private ownership in the United States, and to further the conservation of these wildlife species (16 U.S.C. 3371(a), (h), 3372(a)(4), (e); H. Rept. No. 117-428, pp. 3-4, July 22, 2022). Certain limited statutory exceptions are also provided by the BCPSA (16 U.S.C. 3372(e)(2)). Violators of the BCPSA are subject to civil and criminal penalties (16 U.S.C. 3373), and big cats bred, possessed, imported, exported, transported, sold, received, acquired, or purchased contrary to the provisions of the BCPSA shall be subject to forfeiture to the United States (16 U.S.C. 3374).

As of December 20, 2022, the regulations implementing the CWSA at 50 CFR part 14, subpart K, are, therefore, not in compliance with the new prohibitions and exceptions enacted by the BCPSA. To the extent of a conflict or inconsistency, the statute is controlling. Notwithstanding 50 CFR part 14, subpart K, any act prohibited by the BCPSA is currently unlawful, unless a relevant exception under the BCPSA applies. However, it undermines the public safety and conservation purposes of the BCPSA to maintain regulations in 50 CFR part 14, subpart K, that do not conform to current law. Additionally, publication of an interim rule will provide entities and individuals who must register their animal(s) with the Service an appropriate amount of time to comply with the requirement. As provided in the BCPSA, prohibited wildlife species required to be registered must be registered within 180 days after the date of enactment (i.e., by June 18, 2023). It would not be possible to update the implementing regulations in advance of the 180-day deadline imposed by the BCPSA if we were first to publish a proposed rule, allowing for a public comment period and time to analyze comments received, followed by a final rule.

The Service is issuing this interim rule to implement the statutory directive in the BCPSA. The Service has no discretion to vary the amount of time available to register under the statute, nor does it have discretion to change the new prohibitions and exceptions enacted under the BCPSA. Delay in publishing updates to reflect and implement the new prohibitions and exceptions enacted under the BCPSA would undermine the public safety and conservation purposes of the BCPSA described in greater detail above, as it may result in delays in compliance by the regulated public and put the public at greater risk to the threats posed by big cats in private ownership. As noted above, U.S. House of Representatives Report No. 117-428 (July 22, 2022) provides an estimate of 20,000 big cats in private ownership in the United States and around 300 dangerous incidents since 1990 involving big cats and resulting in human injury or death, as well as the killing of big cats by first responders to restore public safety. Additionally, the House report notes that unwanted big cats may be sold into the exotic pet trade or the illegal market, or surrendered to already overburdened and financially strained wildlife sanctuaries. In addition to increased public safety, the BCPSA strengthens the Service's ability to combat wildlife trafficking, which will lead to benefits for the conservation of big cats. These concerns support the Service's decision to issue an interim rule to implement the statutory directive in the BCPSA. Accordingly, it would serve no purpose to provide an opportunity for public comment on a proposed rule prior to publication of this rule. Thus, pre-publication notice and public comment is impracticable, unnecessary, and contrary to the public interest.

For these reasons, we also find good cause in accordance with 5 U.S.C. 553(d)(3) to make the interim rule effective less than 30 days after the date of publication. Due to the significant risk to public safety posed by prohibited wildlife species and the need to ensure clarity on activities with prohibited wildlife species that are prohibited and excepted under the BCPSA; the fact that the activities prohibited by this rulemaking are already prohibited by the BCPSA, as of December 20, 2022; and the effect of this rulemaking in recognizing and implementing exceptions provided by the BCPSA (providing additional grounds for an immediate effective date for those parts of this rule that recognize and implement an exception in accordance with 5 U.S.C. 553(d)(1)), this interim rule takes effect on the date of publication in the Federal Register.

Pursuant to subtitle E of the Small Business Regulatory Enforcement Fairness Act of 1996 (the Congressional Review Act), the Office of Information and Regulatory Affairs designated this rule as falling within the scope of 5 U.S.C. 804(2). For the same reasons given above, however, we find good cause to make this rule effective immediately under 5 U.S.C. 808(2).

Public Comments

We invite interested persons to submit written comments, suggestions, or recommendations regarding the interim rule. As noted above, we also specifically invite comments on the following:

• whether our final regulations should include provisions for establishing comity agreements with foreign governments to allow for transfer of big cats to a foreign wildlife sanctuary that meets all of the requirements of 16 U.S.C. 3372(e)(2)(C);

• whether there should be any uniform recordkeeping requirements for State colleges, State universities, State agencies, or State-licensed veterinarians;

• elements that should be included in population management and care plans under 16 U.S.C. 3372(e)(2)(A)(i)(III), including the scenarios under which an individual who is not a trained professional employee or contractor of the entity or facility, or licensed veterinarian, would need to come into direct physical contact with the prohibited wildlife species to directly support conservation of the species;

• whether any of the terms in 16 U.S.C. 3372(e)(2)(A)(i)(III) require further regulatory definition to ensure successful implementation of population management and care plans in accordance with the conservation purposes of this BCPSA exception.

We request comments or information from other governmental agencies, States, Native American Tribes, the scientific community, industry, or any other interested parties concerning this rule. We will consider all comments received, and, based on the comments and any additional information received, the final regulations may differ from this interim rule. We note that our ability to make changes to this interim rule will necessarily be limited by the statutory provisions of the BCPSA as described above. Please note that submissions merely stating support for, or opposition to, the action without providing supporting information, although noted, do not provide substantive information necessary to support a determination.

You may submit your comments and materials concerning this rule by one of the methods listed in ADDRESSES. We will not accept comments sent by email or fax. We will not consider mailed comments that are not postmarked by the date specified above in DATES. We will post all comments in their entirety—including your personal identifying information—on https://www.regulations.gov. Before including your address, phone number, email address, or other personal identifying information in your comment, you should be aware that your entire comment—including your personal identifying information—may be made publicly available at any time. While you may ask us in your comment to withhold your personal identifying information from public review, we cannot guarantee that we will be able to do so.

Comments and materials we receive, as well as supporting documentation we used in preparing this interim rule, will be available for public inspection on https://www.regulations.gov, or by appointment, during normal business hours, at the U.S. Fish and Wildlife Service, International Affairs, 5275 Leesburg Pike, Falls Church, VA 22041-3803.

List of Subjects in 50 CFR Part 14

Animal welfare, Exports, Fish, Imports, Labeling, Reporting and recordkeeping requirements, Transportation, Wildlife.

Regulation Promulgation

For the reasons described above, we amend part 14, subchapter B of chapter I, title 50 of the Code of Federal Regulations as set forth below:

PART 14—IMPORTATION, EXPORTATION, AND TRANSPORTATION OF WILDLIFE

1. The authority citation for part 14 continues to read as follows:

Authority: 16 U.S.C. 668, 704, 712, 1382, 1538(d)-(f), 1540(f), 3371-3378, 4223-4244, and 4901-4916; 18 U.S.C. 42; 31 U.S.C. 9701.

2. Revise § 14.3 to read as follows:

§ 14.3 Information collection requirements.

The Office of Management and Budget (OMB) has approved the information collection requirements contained in this part under 44 U.S.C. 3507 and assigned OMB Control Numbers 1018-0012, 1018-0092, and 1018-0192. The Service may not conduct or sponsor and you are not required to respond to a collection of information unless it displays a currently valid OMB control number. You may direct comments regarding these information collection requirements to the Service's Information Collection Clearance Officer at the address provided at 50 CFR 2.1(b).

3. Revise subpart K to read as follows:

Subpart K—Captive Wildlife Safety Act as Amended by the Big Cat Public Safety Act
Sec.
14.250 What is the purpose of the regulations in this subpart?
14.251 What other regulations may apply?
14.252 What definitions do I need to know?
14.253 What are the restrictions contained in the regulations in this subpart?
14.254 What are the requirements for a licensed entity or registered Federal facility?
14.255 What are the requirements for a registered pre-BCPSA owner?
14.256 What are the requirements for a wildlife sanctuary?
14.257 Are there any exceptions to the restrictions contained in the regulations in this subpart?

Subpart K—Captive Wildlife Safety Act as Amended by the Big Cat Public Safety Act

§ 14.250 What is the purpose of the regulations in this subpart?

The regulations in this subpart implement the Big Cat Public Safety Act (BCPSA), 136 Stat. 2336, which amended the Captive Wildlife Safety Act (CWSA), 117 Stat. 2871, which amended the Lacey Act Amendments of 1981, 16 U.S.C. 3371-3378.

§ 14.251 What other regulations may apply?

The provisions of this subpart are in addition to, and are not in place of, other regulations of this subchapter, or other Federal, State, Tribal, or territorial laws or regulations, that may require a permit or describe additional restrictions or conditions for the importation, exportation, transportation, sale, receipt, acquisition, or purchase of any prohibited wildlife species in interstate or foreign commerce, or in a manner substantially affecting interstate or foreign commerce, or breeding of any prohibited wildlife species, or possessing of any prohibited wildlife species.

§ 14.252 What definitions do I need to know?

In addition to the definitions contained in part 10 of this subchapter, and unless the context otherwise requires, in this subpart:

Breed means to facilitate propagation or reproduction (whether intentionally or negligently) or to fail to prevent propagation or reproduction.

Date of enactment of the BCPSA means December 20, 2022.

Direct contact or direct physical contact means any situation in which any individual may potentially touch or otherwise come into physical contact with any live specimen of the prohibited wildlife species.

Licensed entity means any individual, facility, agency, or other entity that holds a valid Class “C” license from and is inspected by the U.S. Department of Agriculture's Animal and Plant Health Inspection Service (APHIS) under the Animal Welfare Act (AWA) (7 U.S.C. 2131 et seq.) (See definition of “Class “C” licensee (exhibitor)” in 9 CFR 1.1.), holds such license in good standing, and meets the requirements in § 14.254.

Prohibited wildlife species (also referred to as “big cats”) means a specimen of any of the following eight species: lion (Panthera leo), tiger (Panthera tigris), leopard (Panthera pardus), snow leopard (Uncia uncia), clouded leopard (Neofelis nebulosa), jaguar (Panthera onca), cheetah (Acinonyx jubatus), and cougar (Puma concolor) or any hybrids resulting from the breeding of any of these species, for example, a liger (a male lion and a female tiger) or a tiglon (a male tiger and a female lion), whether naturally or artificially produced.

Propagation or reproduction means to allow or facilitate the production of offspring of any of the prohibited wildlife species, by any means.

Public contact means the same as direct contact.

Registered pre-BCPSA owner (also referred to as “registrant”) means an entity or individual that at the date of enactment of the BCPSA was in possession of any prohibited wildlife species that was born before the date of enactment of the BCPSA and that meets the requirements in § 14.255.

Registered Federal facility means any Federal facility that exhibits animals and is registered with and inspected by APHIS under the AWA (See definition of “registrant” in 9 CFR 1.1.), holds such registration in good standing, and meets the requirements in § 14.254.

Wildlife sanctuary means a facility that cares for live specimens of one or more of the prohibited wildlife species, is a corporation that is exempt from taxation under section 501(a) of the Internal Revenue Code of 1986 and described in sections 501(c)(3) and 170(b)(1)(A)(vi) of such Code, and meets the requirements of § 14.256.

§ 14.253 What are the restrictions contained in the regulations in this subpart?

Except as provided in § 14.257, it is unlawful for any person to:

(a) Import, export, transport, sell, receive, acquire, or purchase, in interstate or foreign commerce, or in a manner substantially affecting interstate or foreign commerce, any live prohibited wildlife species;

(b) Breed any live prohibited wildlife species;

(c) Possess any live prohibited wildlife species; or

(d) Attempt to commit any act described in paragraphs (a) through (c) of this section.

§ 14.254 What are the requirements for a licensed entity or registered Federal facility?

To qualify for an exception in § 14.257, a licensed entity or a registered Federal facility must meet all of the requirements of this section.

(a) A licensed entity or a registered Federal facility must not allow any individual to come into direct physical contact with a prohibited wildlife species, unless that individual is a:

(1) Trained professional employee or contractor of the licensed entity or registered Federal facility (or an accompanying employee receiving professional training);

(2) Licensed veterinarian (or a veterinary student accompanying such a veterinarian); or

(3) Person who is directly supporting conservation programs of the licensed entity or registered Federal facility, the direct contact is not in the course of commercial activity (which may be evidenced by advertisement or promotion of such activity or other relevant evidence), and the direct contact is incidental to humane husbandry conducted pursuant to a species-specific, publicly available, peer-edited population management and care plan that has been provided to the Service with justifications that the plan—

(i) Reflects established conservation science principles;

(ii) Incorporates genetic and demographic analysis of a multi-institution population of animals covered by the plan; and

(iii) Promotes animal welfare by ensuring that the frequency of breeding is appropriate for the species.

(b) A licensed entity or a registered Federal facility must ensure that during public exhibition of any lion (Panthera leo), tiger (Panthera tigris), leopard (Panthera pardus), snow leopard (Uncia uncia), jaguar (Panthera onca), cougar (Puma concolor), or any hybrid resulting from the breeding of any of these species, whether naturally or artificially produced, the animal is at least 15 feet from members of the public unless there is a permanent barrier sufficient to prevent public contact.

(c) A licensed entity or a registered Federal facility must maintain complete and accurate records of any possession, breeding, transportation, acquisition, receipt, purchase, sale, disposition, importation, or exportation of prohibited wildlife species.

(1) The records required by this paragraph (c) must be up to date and include the names and addresses of persons to or from whom any prohibited wildlife species has been acquired, received, imported, exported, purchased, sold, or otherwise transferred (including loans for exhibition, breeding, or otherwise), and the dates of these transactions.

(2) The licensed entity or registered Federal facility must maintain the records required by this paragraph (c) for the lifespan of each prohibited wildlife species and for 5 years after its death or disposition and must copy these records for Service officials, if requested.

(3) The licensed entity or registered Federal facility must make the records required by this paragraph (c) available and allow access to its facilities and its prohibited wildlife specimens for inspection by Service officials at reasonable hours.

§ 14.255 What are the requirements for a registered pre-BCPSA owner?

To be a registered pre-BCPSA owner (also referred to as a “registrant”) and qualify for an exception in § 14.257, an entity or individual must meet all of the requirements of this section.

(a) A registered pre-BCPSA owner must register each individual prohibited wildlife species in their possession with the Service's BCPSA registration form (Form Number 3-200-11) by no later than 180 days after the date of enactment of the BCPSA (i.e., no later than June 18, 2023). Each individual prohibited wildlife species in the registrant's possession must:

(1) Have been born:

(i) Before the date of enactment of the BCPSA; or

(ii) On or after the date of enactment of the BCPSA from breeding that occurred before the date of enactment of the BCPSA, only if the registrant provides documentation to the Service on the BCPSA registration form (Form Number 3-200-11) to prove the individual prohibited wildlife species was born on or after the date of enactment of the BCPSA from breeding that occurred before the date of enactment of the BCPSA;

(2) Not have been acquired by the registrant after the date of enactment of the BCPSA (i.e., legally in the registrant's possession on or before the date of enactment of the BCPSA and have remained continually in the registrant's possession); and

(3) Be marked with a unique identifier that is either a tattoo or a microchip.

(b) A registered pre-BCPSA owner must not:

(1) Breed, acquire, or sell any prohibited wildlife species after the date of the enactment of the BCPSA (This requirement applies regardless of whether the activity is intrastate, interstate, or international); or

(2) Allow direct contact between the public and any prohibited wildlife species after the date of the enactment of the BCPSA.

(c) A registered pre-BCPSA owner must provide the Service with detailed information for each individual prohibited wildlife species as required by the Service in the BCPSA registration form (Form Number 3-200-11), including:

(1) Common name of prohibited wildlife species;

(2) Name given to individual prohibited wildlife species, if applicable;

(3) Genus, species, and subspecies;

(4) Birthdate and date of acquisition, including supporting documentation;

(5) Unique identifier information (i.e., microchip or tattoo);

(6) Sex;

(7) Description (e.g., eye color, scars, ear tags);

(8) Photographs of individual prohibited wildlife species;

(9) Physical location of individual prohibited wildlife species (if different from registrant's contact information);

(10) Protocols taken to prevent breeding;

(11) Protocols taken to prevent direct contact between the public and the prohibited wildlife species; and

(12) Copies of all local, State, or Federal licenses held in relation to the prohibited wildlife species, if applicable.

(d) Within 10 calendar days as required by the Service in the BCPSA registration form (Form Number 3-200-11), a registered pre-BCPSA owner must update the registration with the Service when a prohibited wildlife species dies or any of the following information changes: The location where the prohibited wildlife species is housed; the protocols taken to prevent breeding; the protocols taken to prevent direct contact between the public and big cat; ownership; or a unique identifier.

(e) A registered pre-BCPSA owner must maintain complete and accurate records of information for each individual prohibited wildlife species in their possession as required by the Service in the BCPSA registration form (Form Number 3-200-11) for the lifespan of each individual prohibited wildlife species and for 5 years after its death or disposition and must copy these records for Service officials, if requested.

(1) While the pre-BCPSA owner may not sell or otherwise engage in commerce with prohibited wildlife species, if the pre-BCPSA owner is no longer able to continue to possess their prohibited wildlife species, the pre-BCPSA owner may make arrangements to donate the prohibited wildlife species to a licensed entity, registered Federal facility, State college, State university, State agency, State-licensed veterinarian, or a wildlife sanctuary, or may make arrangements to abandon the prohibited wildlife species to the Federal Government. The disposition must not be reasonably likely to result in the registered pre-BCPSA owner's economic use, gain, or benefit, including, but not limited to, profit (whether in cash or in kind).

(2) The records required by this paragraph (e) must be up to date, and the registered pre-BCPSA owner must make these records available and allow access to their facilities and prohibited wildlife specimens for inspection by Service officials at reasonable hours.

§ 14.256 What are the requirements for a wildlife sanctuary?

To qualify for an exception in § 14.257, a wildlife sanctuary must meet all of the requirements of this section.

(a) A wildlife sanctuary must not:

(1) Commercially trade in any prohibited wildlife species, including offspring, parts, and byproducts of such animals;

(2) Breed any prohibited wildlife species;

(3) Allow direct contact between the public and any prohibited wildlife species; or

(4) Allow the transportation and display of any prohibited wildlife species offsite.

(b) A wildlife sanctuary must maintain complete and accurate records of any possession, transportation, acquisition, receipt, disposition, importation, or exportation of prohibited wildlife species.

(1) The records required by this paragraph (b) must be up to date and must include the names and addresses of persons to or from whom any prohibited wildlife species has been acquired, received, imported, exported, or otherwise transferred, and the dates of these transactions.

(2) The wildlife sanctuary must maintain the records required by this paragraph (b) for the lifespan of each prohibited wildlife species and for 5 years after its death or disposition and must copy these records for Service officials, if requested.

(3) The wildlife sanctuary must make the records required by this paragraph (b) available and allow access to its facilities and its prohibited wildlife specimens for inspection by Service officials at reasonable hours.

§ 14.257 Are there any exceptions to the restrictions contained in the regulations in this subpart?

(a) The prohibitions of § 14.253 do not apply to:

(1) A licensed entity or registered Federal facility that meets all of the requirements of § 14.254;

(2) A State college, State university, or State agency;

(3) A State-licensed veterinarian;

(4) A wildlife sanctuary that meets all of the requirements of § 14.256; or

(5) A person who:

(i) Can produce documentation showing that they are transporting live prohibited wildlife species solely for the purpose of expeditiously transporting the prohibited wildlife species between individuals or entities that are excepted from the prohibitions in § 14.253; and

(ii) Has no financial interest (whether in cash or in kind) in the prohibited wildlife species other than payment received for transporting them.

(b) The prohibition on possession in § 14.253 does not apply to a registered pre-BCPSA owner who is in possession of any prohibited wildlife species that was:

(1) Born and possessed by the registered pre-BCPSA owner before the date of enactment of the BCPSA and meets all of the requirements of § 14.255 for each of the prohibited wildlife species in their possession; or

(2) Bred before and born on or after the date of enactment of the BCPSA, to a prohibited wildlife species possessed by the registered pre-BCPSA owner before the date of enactment of the BCPSA, if the registered pre-BCPSA owner provides documentation demonstrating that the breeding occurred before the date of enactment of the BCPSA and meets all of the requirements of § 14.255 for each of the prohibited wildlife species in their possession.

Shannon Estenoz,
Assistant Secretary for Fish and Wildlife and Parks.

[FR Doc. 2023-12636 Filed 6-9-23; 8:45 am]

BILLING CODE 4333-15-P